DEPARTMENT OF ENERGY

Federal Energy Regulatory Commission

[Docket No. RP04-256-000]

Gulf South Pipeline Company, LP; Notice of Proposed Changes to FERC Gas Tariff

April 20, 2004.

Take notice that on April 14, 2004, Gulf South Pipeline Company, LP (Gulf South) tendered for filing as part of its FERC Gas Tariff, Sixth Revised Volume No. 1, the following tariff sheets, to become effective May 14, 2004.

Second Revised Sheet No. 4750

First Revised Sheet No. 4751

First Revised Sheet No. 4752

First Revised Sheet No. 4753

First Revised Sheet No. 4754

First Revised Sheet No. 4755

First Revised Sheet No. 4756

First Revised Sheet No. 4757

First Revised Sheet No. 4758

First Revised Sheet No. 4759

First Revised Sheet No. 4760

First Revised Sheet No. 4761

Original Sheet No. 4762

Original Sheet No. 4763

Sheet Nos. 4764—4799

Gulf South states that it is proposing to add pro forma discount letter agreements to its tariff for Rate Schedules FTS, ITS and NNS. Gulf South asserts that these pro forma agreements are consistent with the general terms and conditions of Gulf South's tariff and will streamline the contracting practices of Gulf South.

Gulf South states that copies of this filing have been served upon Gulf South's customers, state commissions and other interested parties.

Any person desiring to be heard or to protest said filing should file a motion to intervene or a protest with the Federal Energy Regulatory Commission, 888 First Street, NE., Washington, DC 20426, in accordance with § 385.214 or § 385.211 of the Commission's Rules and Regulations. All such motions or protests must be filed in accordance with § 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the eLibrary. Enter the docket number excluding the last three digits in the docket number field to access the document. For assistance, please contact FERC Online Support at FERCOnlineSupport@ferc.gov or toll-free at (866) 208-3676, or TTY, contact (202) 502-8659. The Commission strongly encourages electronic filings. See, 18 CFR 385.2001(a)(1)(iii) and the instructions on the Commission's Web site under the e-Filing link.

Magalie R. Salas,
Secretary.

[FR Doc. E4-929 Filed 4-26-04; 8:45 am]

BILLING CODE 6717-01-P